DEPARTMENT OF TRANSPORTATION

Federal Motor Carrier Safety Administration

49 CFR Parts 383, 384, 390, and 391

[Docket No. FMCSA-1997-2210]

RIN 2126-AA10

Medical Certification Requirements as Part of the Commercial Driver's License; Availability of Supplemental Document

AGENCY: Federal Motor Carrier Safety Administration (FMCSA), DOT.

ACTION: Proposed rule; availability of supplemental document.

SUMMARY: This notice advises the public that FMCSA is placing in the public docket an additional document that the Agency may rely on in support of a final rule to integrate information regarding the medical certification status of a driver into the commercial driver's license (CDL) process. FMCSA published a notice of proposed rulemaking (NPRM) on this matter on November 16, 2006. Because the involved state cost analysis document was completed after publication of the NPRM and subsequent public comment period, the Agency now dockets and invites comment on it.

DATES: Comments on the document are due by July 28, 2008.

ADDRESSES: You may submit comments, identified by docket number FMCSA-1997-2210, by one of the following methods: Internet, facsimile, regular mail, or hand delivery. Please do not submit the same comments by more than one method. FMCSA encourages use of the Federal eRulemaking portal. It provides the most efficient and timely method of receiving and processing your comments.

• Federal eRulemaking Portal: Go to http://www.regulations.gov. Follow the online instructions for submitting comments.

• Fax: 1-202-493-2251.

• Mail: Docket Management Facility; U.S. Department of Transportation; 1200 New Jersey Avenue, SE.; Washington, DC 20590-0001.

• Hand Delivery: Ground floor, Room W12-140, 1200 New Jersey Avenue, SE., Washington, DC, between 9 a.m. and5 p.m., e.t., Monday through Friday, except Federal holidays.

Instructions: All submissions must include the Agency name and docket number (FMCSA-1997-2210) or Regulatory Identification Number (RIN 2126-AA10) for this action. Note that all comments received will be posted without change to http://www.regulations.gov, including any personal information provided. Refer to the Privacy Act heading at http://www.regulations.gov for further information.

Privacy Act: Anyone is able to search the electronic form of all comments received into any of our dockets by the name of the individual submitting the comment (or signing the comment, if submitted on behalf of an association, business, labor union, etc.). You may review the Department of Transportation's complete Privacy Act Statement in the Federal Register published on April 11, 2000 (65 FR 19476) or you may visit http://DocketsInfo.dot.gov.

Submitting Comments:

• You can find electronic submission and retrieval help and guidelines under the “help” section of the Web site.

• For notification that FMCSA received your comments, please include a self-addressed, stamped envelope or postcard, or print the acknowledgement page that appears after submitting comments on line.

• All comments received before the close of business on the comment closing date indicated above will be considered and will be available for examination in the docket at the above address or on the Web site.

• Comments received after the comment closing date will be available in the docket and will be considered to the extent it is practical.

FMCSA will continue to put relevant information in the docket as it becomes available after the comment period closing date, and interested persons should continue to examine the docket for new material.

FOR FURTHER INFORMATION CONTACT: Dr. Mary D. Gunnels, Director, Medical Programs, FMCSA, Room W64-224, U.S. Department of Transportation, 1200 New Jersey Avenue, SE., Washington, DC 20590-0001. Telephone: (202) 366-4001. E-mail address: FMCSAMedical@dot.gov. Office hours are from 8:30 a.m. to 5 p.m. Monday through Friday, except Federal holidays.

SUPPLEMENTARY INFORMATION: On November 16, 2006, FMCSA published an NPRM on how the Agency proposes to integrate information regarding the medical certification status of a driver of a commercial motor vehicle into the CDL process (71 FR 66723). This rulemaking is required by section 215 of the Motor Carrier Safety Improvement Act of 1999 (MCSIA) (Pub. L. 106-159, 113 Stat. 1767, December 9, 1999; set out as a note to 49 U.S.C. 31305).

For a full explanation of this proposal, please see the preamble to the NPRM. The docket for this rulemaking (FMCSA-1997-2210) contains the NPRM and all of the background information for this rulemaking, including comments.

This notice calls attention to an additional docketed document which was not used in developing the NPRM that FMCSA may rely on in support of its final rule. Placing this document in the docket now is necessary because it only became available after the NPRM was published and after conclusion of the comment period established in the NPRM.

The Agency has placed the state cost analysis document referenced below in the docket for this rulemaking and will accept comments on this document until July 28, 2008.

The document that FMCSA is placing in the docket is titled: State Cost Analysis to Implement Notice of Proposed Rulemaking (NPRM) dated November 16, 2006 titled “Medical Certification Requirements as Part of the CDL,” prepared for the U.S. Department of Transportation by the North American Driver Safety Foundation, October 2007. Several States asserted in their comments to the NPRM that they believe the Agency underestimated State costs for complying with the proposed rule. They requested FMCSA to gather additional data from States on the anticipated costs for this proposal. In response, the Agency arranged to survey a sample of nine States to evaluate whether the costs to States to implement this rule would be different than those used in the NPRM. This report describes what cost information was collected and how that additional cost information was analyzed to better estimate the national costs of implementing the requirements outlined in the NPRM.

Issued on: June 20, 2008.
John H. Hill,
Administrator.

[FR Doc. E8-14608 Filed 6-26-08; 8:45 am]

BILLING CODE 4910-EX-P